DEPARTMENT OF TRANSPORTATION

Federal Aviation Administration

14 CFR Part 39

[Docket No. FAA-2016-9519; Directorate Identifier 2016-NM-099-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A318, A319, A320, and A321 series airplanes. This proposed AD was prompted by in-service experience and further analysis, which showed that the galley 5 without kick-load retainers, was unable to withstand the expected loading during several flight phases or in case of emergency landing. This proposed AD would require modification of galley 5 by adding kick-load retainers. We are proposing this AD to address the unsafe condition on these products.

DATES: We must receive comments on this proposed AD by February 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE., Washington, DC 20590.

• Hand Delivery: Deliver to Mail address above between 9 a.m. and 5 p.m., Monday through Friday, except Federal holidays.

• For service information identified in this NPRM, contact Airbus, Airworthiness Office-EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2016-9519; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-9519; Directorate Identifier 2016-NM-099-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive, 2016-0040, dated March 2, 2016, (referred to after this as the Mandatory Continuing Airworthiness Information, or “the MCAI”), to correct an unsafe condition for certain Airbus Model A318, A319, A320, and A321 series airplanes. The MCAI states:

Following in-service experience and further analyses, it was ascertained that the galley 5 without kick-load retainers on external position could not withstand the expected loading during several flight phases or in case of emergency landing.

This condition, if not corrected, could lead to galley/trolley detachment and collapse into an adjacent cabin aisle or cabin zone, possibly spreading loose galley equipment items, compartment doors or leaking fluids, blocking an evacuation route, and consequently resulting in injury to crew or passengers.

To address this potential unsafe condition, Airbus issued 6 Service Bulletins (SB) to provide modification instructions for the affected aeroplanes.

For the reasons described above, this [EASA] AD requires modification of galley 5 trolley compartments to install kick-load retainers.

You may examine the MCAI in the AD docket on the Internet at http://www.regulations.gov by searching for and locating Docket No. FAA-2016-9519.

Related Service Information Under1 CFR Part 51

We reviewed the following Airbus service information: Airbus Service Bulletin A320-25-1B29, dated June 19, 2014, and Airbus Service Bulletin A320-25-1B30, dated June 19, 2014. The service information describes procedures for installing kick-load retainers on certain galley 5 trolley compartments. These documents are distinct since they apply to different airplane configurations. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 19 airplanes of U.S. registry.

We estimate the following costs to comply with this proposed AD:

Estimated Costs
Action | Labor cost | Parts cost | Cost per product | Cost on U.S. operators
Modification | 2 work-hours × $85 per hour = $170 | $0 | $170 | $3,230

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9519; Directorate Identifier 2016-NM-099-AD.

(a) Comments Due Date

We must receive comments by February 17, 2017.

(b) Affected ADs

None.

(c) Applicability

This AD applies to Airbus Model A318-112, A319-115, A320-214, A320-232, and A321-111 airplanes, certificated in any category, with manufacturer's serial numbers 1479, 3096, 3693, 3713, 3739, 3791, 3896, 3902, 3907, 3931, 3949, 3969, 4030, 4045, 4049, 4059, 4066, 4077, 4083, 4124, 4146, 4158, 4188, 4198, 4206, 4209, 4218, 4235, 4255, 4264, 4304, 4321, 4371, 4374, 4395, 4411, 4417, 4431, 4485, 4492, 4502, 4528, 4541, 4548, 4592, 4595, 4638, 4651, 4669, 4703, 4724, 4737, 4746, 4770, 4780, 4783, 4826, 4827, 4860, 4863, 4865, 4902, 4934, 4945, 4951, 4952, 4971, 4996, 5023, 5029, 5042, 5088, 5095, 5132, 5159, 5164, 5171, 5175, 5192, 5210, 5227, 5241, 5247, 5251, 5275, 5277, 5297, 5306, 5340, 5343, 5348, 5356, 5366, 5370, 5385, 5387, 5392, 5396, 5400, 5407, 5418, 5427, 5438, 5456, 5458, 5469, 5495, 5517, 5555, 5624, 5674, 5678, 5698, 5699, 5704, 5709, 5714, 5791, 5745, 5753, 5761, 5781, 5786, 5788, 5789, 5798, 5804, 5810, 5821, 5827, 5842, 5874, 5882, 5889, 5903, 5907, 5916, 5924, 5958, 5984, 5994, 6000, 6004, 6054, 6080, 6107, 6166, 6176, 6234, 6266, 6293, 6335, 6344, 6365, 6430, and 6444.

(d) Subject

Air Transport Association (ATA) of America Code 25, Equipment/furnishings.

(e) Reason

This AD was prompted by in-service experience and further analysis, which showed that the galley 5 without kick-load retainers was unable to withstand the expected loading during several flight phases or in case of emergency landing. We are issuing this AD to prevent galley/trolley detachment and collapse into an adjacent cabin aisle or cabin zone, possibly spreading loose galley equipment items or compartment doors, or leaking fluids. These hazards could block an evacuation route and result in injury to crew or passengers.

(f) Compliance

Comply with this AD within the compliance times specified, unless already done.

(g) Install Kick-Load Retainers

Within 12 months after the effective date of this AD, install kick-load retainers on the galley 5 trolley compartments as specified in paragraph (g)(1), (g)(2), or (g)(3) of this AD, as applicable.

(1) For Airbus Model A319 airplanes, manufacturer's serial numbers 5678, 5698, 5704, 5745, 5753, 5761, 5781, 5786, 5788, 5789, 5798, 5810, 5827, and 5842, do the installation in accordance with the Accomplishment Instructions of Airbus Service Bulletin A320-25-1B29, dated June 19, 2014.

(2) For Airbus Model A320 airplanes, manufacturer's serial numbers 5458, 5517, 5624, 5672, and 5804, do the installation in accordance with the Accomplishment Instructions of Airbus Service Bulletin A320-25-1B30, dated June 19, 2014.

(3) For airplanes not identified in paragraph (g)(1) or (g)(2) of this AD, use a method approved by the Manager, International Branch, ANM-116, Transport Airplane Directorate, FAA; or the European Aviation Safety Agency (EASA); or Airbus's EASA Design Organization Approval (DOA).

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(i) Related Information

(1) Refer to Mandatory Continuing Airworthiness Information (MCAI) EASA Airworthiness Directive 2016-0040, dated March 2, 2016, for related information. This MCAI may be found in the AD docket on the Internet at http://www.regulations.gov by searching for and locating Docket No. FAA-2016-9519.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

Issued in Renton, Washington, on December 15, 2016.
Victor Wicklund,
Acting Manager, Transport Airplane Directorate, Aircraft Certification Service.

[FR Doc. 2016-30806 Filed 12-30-16; 8:45 am]

BILLING CODE 4910-13-P